DEPARTMENT OF COMMERCE

International Trade Administration Business Development Trade Mission to Egypt, Kenya, and South Africa

AGENCY: International Trade Administration, Department of Commerce.

ACTION: Notice.

SUMMARY: The Department of Commerce invites U.S. companies to participate in Acting Assistant Secretary and Director General Marjory Searing's Business Development Trade Mission to Egypt, Kenya, and South Africa, October 1-7, 2000.

DATES: All applications must be received by August 4, 2000. Applications received after that date will be considered on a space available basis.

ADDRESSES: Applications may be submitted to Grace Wiggins, Department of Commerce, 14th and Constitution Avenue, N.W., Room 3810, Washington, D.C. 20230, Tel: 202-482-6482.

FOR FURTHER INFORMATION CONTACT: Grace Wiggins, Department of Commerce Tel.: 202-482-6482; Fax (202) 482-6482.

SUPPLEMENTARY INFORMATION: Acting Assistant Secretary and Director General of the U.S. and Foreign Commercial Service Marjory Searing will lead a senior-level business development trade mission, of approximately 10-15 companies, focusing on women-owned and women-managed businesses to the countries of Egypt, Kenya and South Africa. This Business Development Mission is being organized to coincide with the Global Summit of Women 2000: Africa being held in Johannesburg, South Africa on October 5-7. While the trade mission and summit focus on women-owned and/or managed companies, participation is not limited to such businesses and all interested U.S. companies are encouraged to apply. The mission will visit Cairo, Egypt; Nairobi, Kenya; and Johannesburg, South Africa with an optional stop to Cape Town, South Africa. The overall focus of the trip will be commercial opportunities for U.S. companies, presented by the continuing market liberalization and privatization happening in these countries.

Best sectors offering opportunities for American firms include but are not limited to environmental equipment and services, Telecommunications, medical and computer equipment and software, information technology, fashion and jewelry, cosmetic/hair products and security and safety equipment.

Dated: May 8, 2000.
Sherry Lewis-Khanna,
Special Assistant, Office of Domestic Operations.

[FR Doc. 00-11915 Filed 5-11-00; 8:45 am]

BILLING CODE 3510-FP-P